NUCLEAR REGULATORY COMMISSION

[Docket No. 40-8943; NRC-2022-0153]

Crow Butte Resources, Inc.; In Situ Uranium Recovery Facility

AGENCY: Nuclear Regulatory Commission.

ACTION: Final finding of no significant impact and environmental assessment supplement; issuance.

SUMMARY: The U.S. Nuclear Regulatory Commission (NRC) is issuing a final finding of no significant impact (FONSI) and accompanying supplement to the NRC staff's environmental assessment (EA) for the license renewal of the Crow Butte Resources, Inc. (CBR) in situ uranium recovery (ISR) facility located Dawes County, Nebraska. Based on the analysis in the EA supplement, the NRC staff has concluded that there will be no significant impacts to cultural resources from the renewal of CBR's license and, therefore, a FONSI remains appropriate.

DATES: The EA supplement referenced in this document is available on October 25, 2022.

ADDRESSES: Please refer to Docket ID NRC-2022-0153 when contacting the NRC about the availability of information regarding this document. You may obtain publicly available information related to this document using any of the following methods:

• Federal Rulemaking website: Go to https://www.regulations.gov and search for Docket ID NRC-2022-0153. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The EA supplement can be found in ADAMS under Accession No. ML22278A108.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. Eastern Time (ET), Monday through Friday, except Federal holidays.

• Project Website: Information related to the CBR project can be accessed on the NRC's CBR website at https://www.nrc.gov/info-finder/materials/uranium/licensed-facilities/crow-butte.html.

FOR FURTHER INFORMATION CONTACT: Jean Trefethen, Office of Nuclear Material Safety and Safeguards, U.S. Nuclear Regulatory Commission, Washington, DC 20555-0001; telephone: 301-415-0867; email: Jean.Trefethen@nrc.gov.

SUPPLEMENTARY INFORMATION:

I. Discussion

The NRC is issuing the final FONSI and accompanying supplement to the NRC staff's EA for the license renewal of CBR's ISR facility. The EA supplement describes the NRC staff's efforts to address the deficiencies identified in the Atomic Safety and Licensing Board's partial initial decision (LBP-16-7), which found that the NRC staff did not meet its identification obligations under the National Historic Preservation Act (NHPA) and was deficient under the National Environmental Policy Act (NEPA) “for failing to take a hard look at potential TCPs [traditional cultural properties] within the Crow Butte license area[.]” Specifically, the EA supplement describes the methodology, implementation, and results of the 2021 tribal cultural survey to identify sites of significance to the Oglala Sioux Tribe. It also documents the NRC staff's evaluation of the identified sites according to the criteria for listing in the National Register of Historic Places (NRHP) and the NRC staff's assessment of potential impacts of the license renewal on the identified sites under the NHPA (for sites eligible for the NRHP) or NEPA (for other sites of significance to the Tribe). Based on these evaluations in the EA supplement, the NRC staff concludes that there will be no significant impacts to cultural resources identified during the 2021 tribal cultural survey. Accordingly, based on the 2014 EA (ADAMS Accession No. ML14288A517) and the EA supplement, the NRC staff has concluded that an environmental impact statement is not necessary and a FONSI remains appropriate.

II. Finding of No Significant Impact

Based on its review of the proposed action, in accordance with the requirements in part 51 of title 10 of the Code of Federal Regulations (10 CFR), “Environmental Protection Regulations for Domestic Licensing and Related Regulatory Functions,” the NRC staff has concluded that the proposed action, renewal of NRC Source Materials License No. SUA-1534 for CBR's ISR facility located in Crawford, Nebraska, will not have a significant impact on the cultural resources discussed in the EA supplement and will not significantly affect the quality of the human environment. Therefore, the NRC staff has determined, pursuant to 10 CFR 51.31, that preparation of an environmental impact statement is not required for the proposed action and a FONSI is appropriate.

III. Additional Information

The NRC published a notice of the availability of the draft EA supplement and draft FONSI in the Federal Register on August 26, 2022 (87 FR 52597) for a 30-day public comment period. The public comment period closed on September 26, 2022. The ADAMS accession numbers for the public comments on the draft EA supplement and draft FONSI, and the NRC staff's responses to the public comments, are provided in an appendix to the final EA supplement.

Dated: October 19, 2022.
For the Nuclear Regulatory Commission.
John M. Moses,
Deputy Director, Division of Rulemaking, Environmental and Financial Support, Office of Nuclear Material Safety, and Safeguards.

[FR Doc. 2022-23113 Filed 10-24-22; 8:45 am]

BILLING CODE 7590-01-P